DEPARTMENT OF LABOR

Office of the Secretary

[Secretary's Order 2-2003]

Management of U.S. Department of Labor Web Sites

1. Purpose. To establish policy and assign responsibilities for the management of Department of Labor (DOL) Internet and Intranet Web sites, and the content published on these Web sites.

2. Authority and Relationship to Other Orders.

a. Authority. This Order is issued pursuant to 29 U.S.C. 551 et seq.; 5 U.S.C. 301; sections 5122-5127 of the Clinger-Cohen Act (40 U.S.C. 11312-17); and the E-Government Act of 2002 (Pub. L. 107-347).

b. Relationship to Other Orders.

(1) This Order does not affect the authorities and responsibilities assigned by any other Secretary's Order, unless otherwise expressly so provided in this or another Order.

(2) This Order repeals Secretary's Order 2-2000, U.S. Department of Labor Internet Services.

(3) This Order amends Paragraph 4(a)(10) of Secretary's Order 2-2002, to the extent of any inconsistencies.

(4) This Order amends Secretary's Order 37-65, to assign responsibilities to Office of Public Affairs for certain Web site functions.

3. Background. The Department receives more than 550 million visits a year on its various Web sites and relies on its public Web sites to provide services to individuals, businesses, organizations, and other government entities. DOL also relies heavily on intranets to communicate internally with the Department's employees. The management of our Internet and Intranet Web sites will become more critical as the Department implements its e-government strategy and improves the electronic delivery of products and services to our internal and external customers. This Order is designed to ensure that the Department communicates its policies and programs more effectively and efficiently via our Internet and Intranet Web sites.

4. Statement of Policy. The Department's ability to communicate and conduct business will continue to require the effective use and management of the Department's Web sites. To maximize the potential of our Web sites, while meeting customer expectations, the Department will employ common Web management standards and approaches for all DOL Internet and Intranet Web sites. To achieve these objectives, the Department will:

a. Establish a Web Site Management Group that effectively leverages the programmatic content, legal, policy and information technology expertise throughout the Department;

b. Ensure that the Department's Web sites present a common, unified message to the public and Departmental employees, while reflecting the Department's purpose and mission;

c. Apply Web information technology standards across all DOL Web sites in accordance with the Federal and Departmental Enterprise Architectures;

d. Ensure appropriately secure and confidential exchange of information via the Department's Web sites;

e. Ensure appropriate review and approval of information prior to publication on Departmental Web sites;

f. Ensure that Web site content is timely, accurate, and complete and managed in compliance with legislative and administrative mandates, including the Federal Records Act, Privacy Act, and Rehabilitation Act;

g. Ensure that e-correspondence coming in via DOL Internet Web sites is tracked and answered in a timely fashion and preserved in accordance with the Federal Records Act to protect the legal rights of, and minimize the legal risks to, the Department;

h. Ensure that all records of business transacted on DOL Web sites are managed in accordance with the Federal Records Act, Privacy Act, and other applicable legislative and administrative mandates and guidance;

i. Ensure that Agency Heads are accountable for compliance with all Federal and Departmental mandates, policies, and legislative requirements; and

j. Ensure that the Department conducts privacy impact assessments as required by the E-Government Act.

5. Definitions.

a. “Information Technology” refers to any equipment or interconnected system or subsystem of equipment, that is used in the automatic acquisition, storage, manipulation, management, movement, control, display, switching, interchange, transmission, or reception of data or information by the executive agency. It also refers to computers, ancillary equipment, software, firmware and similar procedures, services (including support services), and related resources.

b. “Intranet Web sites” refers to Departmental and Agency Web sites that provide general access for communicating to DOL employees.

c. “Internet Web sites” refers to Departmental and Agency Web sites that are available to the general public.

d. “Departmental Web Site Information Technology Standards” refers to the policies, processes, and procedures, defined by the Office of the Chief Information Officer (OCIO), to meet architectural, interoperability, and security goals that are within the guidelines of the Federal and Department Enterprise Architectures. Such guidance will establish Department-wide baselines and targets for managing and operating DOL Internet Web sites and Intranet Web sites, and related information technologies.

6. Delegation of Authority and Assignment of Responsibilities.

a. The Assistant Secretary for Public Affairs (ASPA) is delegated authority and assigned responsibility for management of DOL Web sites as outlined below:

(1) Appointing a DOL Web Sites Director to manage the Department's Internet Web sites and Intranet Web sites, including the DOL.GOV and Labornet Web sites;

(2) Maintaining and operating the DOL.GOV and Labornet Web sites in accordance with DOL policies and procedures, including Departmental Web Site Information Technology Standards and design requirements;

(3) Coordinating with the Office of the Assistant Secretary for Policy (OASP), Office of the Assistant Secretary for Administration and Management (OASAM), OCIO, and the Office of the Solicitor (SOL) in the development of policy, procedure and guidelines to ensure that DOL Internet Web site content and services are accurate, timely, and regularly updated; and aligned with the Department's mission and Secretarial goals;

(2) Coordinating with DOL agencies, OASP, OASAM, OCIO, and SOL, to ensure that all information published on DOL Internet Web sites, all e-correspondence coming into Web sites as well as responses, and all Federal Records Act, Privacy Act and other applicable legislative and administrative mandates and guidance to protect the legal rights of, and minimize the legal risks to, the Department;

(5) Ensuring a common look and feel, navigation, and branding for all appropriate DOL Internet Web sites and Intranet Web sites by developing DOL design requirements;

(6) Establishing and chairing a Web Site Management Group comprising designated Agency Internet Coordinators and designated policy-level representatives from OPA, OCIO, OASP and SOL, and other agencies or offices as appropriate for the purpose of implementing DOL-wide Internet and Intranet Web site policies consistent with other applicable Departmental review processes; and

(7) Consistent with other applicable Departmental review processes, approving or disapproving, after consultations with the Web Site Management Group, the creation of all new Internet Web sites and Intranet Web sites, including new individual agency Internet Web Sites and Intranet Web sites.

b. The Assistant Secretary for Policy (ASP) is delegated authority and assigned responsibility for:

(1) Establishing, managing, and overseeing, in coordination with DOL agencies, OPA, OASAM, SOL and other relevant offices, the Departmental Internet Web site content clearance process and the Departmental Internet Web site content clearance requirements, which shall provide for:

(a) Appropriate and timely approval or disapproval of content for policy consistency, prior to publication on all Departmental Internet Web sites; and

(b) Appropriate coordination with SOL to ensure compliance with legislative and administrative mandates, including the Federal Records Act, Privacy Act, and Section 508 of the Rehabilitation Act.

(2) In coordination with DOL Agencies, OPA, OASAM, and SOL, establishing appropriate Department-wide policy for designing, developing, and overseeing implementation of an electronic correspondence tracking and reporting process to manage responses to electronic correspondence received via Internet Web sites. The process shall ensure that all information published on the Internet Web sites, all e-correspondence coming into the Internet Web sites as well as responses, and all records of business transacted in whole or in part via the Web sites are managed in accordance with the Federal Records Act, Privacy Act and other applicable legislative and administrative mandates and guidance to protect the legal rights of, and minimize the legal risks to, the Department.

(3) Participating as a Vice-Chair of the Web Site Management Group.

c. The Chief Information Officer (CIO) is delegated authority and assigned responsibility for:

(1) In consultation with SOL as appropriate, supporting, consistent with Secretary's Order 1-2000, all information technology aspects of DOL Internet Web sites and Intranet Web sites pursuant to the Clinger-Cohen Act, E-Government Act, Paperwork Reduction Act, Section 508 of the Rehabilitation Act, Federal Information Security Management Act (FISMA) and other applicable statutory and administrative mandates;

(2) In consultation with SOL as appropriate, set Departmental Web Site Information Technology Standards and technical policy for all Departmental Web sites, including standards to ensure compliance with the technical requirements of legislative and administrative mandates, such as Section 508 of the Rehabilitation Act;

(5) Ensuring information technology resources are in alignment with the Department's capital planning and investment management program, in accordance with CIO statutory responsibilities, under the Clinger-Cohen Act, and E-Government Act.

(6) Participating as a Vice-Chair of the Web Site Management Group; and

(7)Coordinating and consulting, as appropriate, with other DOL agencies in fulfilling the above responsibilities.

d. The Assistant Secretary for Administration and Management (ASAM) is delegated authority and assigned responsibility for:

(1) Ensuring, through the Department's budget review process, that agencies have appropriate plans and budgetary commitment to support the continuing development, implementation, operation, and expansion of DOL Web services.

(2) Providing operational and maintenance support to OPA for the hardware and operating system used to run Internet Information Services, Internet Web sites, and Labornet, including network connectivity and backups.

(3) In coordination with OASP, OPA, OCIO and SOL, ensuring that information published on Internet Web sites, e-correspondence coming in via Internet Web sites, and records of business transacted in whole or in part via Internet Web sites are managed in accordance with the Federal Records Act, Privacy Act and other applicable legislative and administrative mandates and guidance to protect the legal rights of, and minimize the legal risks to, the Department.

e. The Solicitor of Labor (SOL) is delegated authority and assigned responsibility for:

(1) Providing legal advice and counsel to the DOL agencies and offices on all matters arising in the administration of this Order;

(2) Reviewing all Internet content for legal issues, in accordance with Departmental and Agency Web site content clearance processes and requirements; and

(3) Participating as a Vice-Chair of the Web Site Management Group.

f. DOL Agency Heads are delegated authority and assigned responsibility for developing, implementing, operating, and expanding their respective agency Internet services in accordance with this Order and DOL policy and standards. These responsibilities include the following:

(1) Designating an agency Web site Coordinator at the policy level to serve as point of contact on any Internet Web site-related issue, and to serve as a member of the Web Site Management Group;

(2) Ensuring compliance with all Federal and Departmental mandates, policies, and legislative requirements, including the Federal Records Act, Privacy Act, and Section 508 of the Rehabilitation Act, Clinger-Cohen Act, and E-Government Act;

(3) Overseeing and ensuring appropriate clearance of all Agency Internet Web site content for publication prior to providing the content to OPA;

(4) Supporting and implementing Departmental Web Site Information Technology Standards and initiatives;

(5) Developing, implementing and maintaining Agency Internet Web site content clearance processes, in consultation with SOL and OASP, which comport with Departmental review and clearance requirements;

(6) Producing appropriate plans and budgets to support their Internet and Intranet Web sites in compliance with the Department's Capital Planning and Investment Control guidelines and the Enterprise Architecture;

(7) Providing the resources and training necessary to develop, implement, operate, and expand individual agency Web site services;

(8) Developing, implementing and maintaining Agency Internet and Intranet Web site design processes, which shall comport with the Departmental Internet and Intranet Web site design requirements and be properly integrated with general Department and agency design processes, as evidenced by review and approval by OPA and SOL;

(9) Developing, implementing and maintaining Agency Internet Web site information technology practices, which shall accord, at a minimum, with the Departmental Internet Web Site Information Technology Standards, and be properly integrated with the Federal and Departmental Enterprise Architectures;

(10) Ensuring that all information published on agency Web sites, all e-correspondence coming into the Web sites as well as responses, and all records of business transacted in whole or in part via DOL's Internet Web sites are managed in accordance with Federal Records Act, Privacy Act and other applicable legislative and administrative mandates and guidance;

(11) Ensuring quality control and full compliance with all Departmental Internet and Intranet policies and processes;

(12) Obtaining approval from OPA for all new Internet and Intranet Web sites before making the sites available to the public or employees;

(13) Ensuring that all grandfathered Internet Web site content is cleared consistent with the requirements of this Order; and

(14) Ensuring agency compliance with the Departmental Internet Web site content clearance process and requirements consistent with the requirements of this Order.

7. Effective Date. This Order is effective immediately.

8. Reservation of Authority:

a. The submission of reports and recommendations to the President and Congress concerning the administration of statutory or administrative provisions is reserved to the Secretary of Labor.

b. This Secretary's Order does not affect the authorities or responsibilities of the Office of Inspector General under the Inspector General Act of 1978, as amended, or under Secretary's Order 2-90 (January 31, 1990).

c. The Secretary retains all authorities delegated herein.

9. Redelegations and Transfers of Authority:

a. All of the authorities delegated herein may be redelegated.

b. The Assistant Secretary for Public Affairs may transfer authorities set forth in paragraph 6a to other agency heads, as appropriate.

10. Grandfather Clause:

a. Existing Departmental and Agency Web site design requirements shall continue in effect until the new requirements authorized under this Order are established.

b. Existing Departmental and Agency Web site information technology shall continue in effect until the new standards authorized under this Order are established.

c. OPA shall ensure that all grandfathered Web sites comport with the Departmental Web Site design requirements authorized under this Order.

d. OCIO shall ensure that all grandfathered Web sites interoperate with the Departmental Web Site Information Technology Standards authorized under this Order.

e. The grandfather clause expires when new requirements and standards become effective.

Dated: April 4, 2003.
Elaine L. Chao,
Secretary of Labor.

[FR Doc. 03-8905 Filed 4-10-03; 8:45 am]

BILLING CODE 4510-23-P